DEPARTMENT OF TRANSPORTATION

Federal Motor Carrier Safety Administration

49 CFR Parts 383, 391, 392, 395 and 396

[Docket No. FMCSA-2017-0114]

Federal Motor Carrier Safety Regulations: Highly Automated Commercial Vehicles; Public Listening Session

AGENCY: Federal Motor Carrier Safety Administration (FMCSA), DOT.

ACTION: Announcement of public listening session.

SUMMARY: FMCSA announces that it will hold a public listening session on April 24, 2017, to solicit information on issues relating to the design, development, testing, and deployment of highly automated commercial vehicles (HACVs). The listening session will provide interested parties an opportunity to share their views and any data or analysis on this topic with Agency representatives. FMCSA will transcribe all comments and place the transcripts in the docket referenced above. FMCSA will webcast the entire proceeding.

DATES: The listening session will be held on Monday, April 24, 2017, from 9:30 a.m. to 12:00 p.m., e.t. Comments will be accepted from in-person participants as well as comments submitted via the Internet. If all interested participants have had an opportunity to comment, the session may conclude early.

Public Comments: Comments on this notice must be received on or before July 17, 2017.

ADDRESSES: The public listening session will be held as part of the Commercial Vehicle Safety Alliance Workshop at the Hyatt Regency Atlanta, 265 Peachtree Street NE., Atlanta, GA 30303, (404) 577-1234, in the Regency Ballroom. Participation in the listening session is free. FMCSA will post specific information on how to participate via the Internet on the FMCSA Web site at www.fmcsa.dot.gov in advance of the session.

You may submit comments identified by Docket Number FMCSA-2017-0114 using any of the following methods:

• Federal eRulemaking Portal: http://www.regulations.gov. Follow the online instructions for submitting comments.

• Mail: Docket Management Facility, U.S. Department of Transportation, Room W12-140, 1200 New Jersey Avenue SE., Washington, DC 20590-0001.

• Hand Delivery or Courier: West Building, Ground Floor, Room W12-140, 1200 New Jersey Avenue SE., Washington, DC, between 9:00 a.m. and 5:00 p.m., e.t., Monday through Friday, except Federal holidays.

• Fax: 1-202-493-2251.

FOR FURTHER INFORMATION CONTACT: Ms. Shannon L. Watson, Senior Policy Advisor, (202) 366-2551, Shannon.Watson@dot.gov, Federal Motor Carrier Safety Administration, 1200 New Jersey Avenue SE., Washington, DC 20590-0001.

If you need sign language interpretation or any other accessibility accommodation, please contact Ms. Watson by April 19, 2017, to allow us to arrange for such services. FMCSA cannot guarantee that interpreter services requested on short notice will be provided.

SUPPLEMENTARY INFORMATION:

Submitting Comments

If you submit a comment, please include the docket number for this notice (FMCSA-2017-0114), indicate the specific section of this document to which each comment applies, and provide a reason for each suggestion or recommendation. You may submit your comments and material online or by fax, mail, or hand delivery, but please use only one of these means. FMCSA recommends that you include your name and mailing address, an email address, or a phone number in the body of your document so that FMCSA can contact you if there are questions regarding your submission.

To submit your comment online, go to http://www.regulations.gov, put the docket number, FMCSA-2017-0114, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

Viewing Comments and Documents

To view comments, as well as any documents mentioned in this preamble as being available in the docket, go to http://www.regulations.gov. Insert the docket number, FMCSA-2017-0114, in the keyword box, and click “Search.” Next, click the “Open Docket Folder” button and choose the document to review. If you do not have access to the Internet, you may view the docket by visiting the Docket Management Facility in Room W12-140 on the ground floor of the West Building, 1200 New Jersey Avenue SE., Washington, DC 20590, between 9:00 a.m. and 5:00 p.m., e.t., Monday through Friday, except Federal holidays.

Privacy Act

The Department of Transportation (DOT) solicits comments from the public to better inform its decision-making processes. DOT posts these comments, without edit, including any personal information the commenter provides, to www.regulations.gov, as described in the system of records notice (DOT/ALL-14 FDMS), which can be reviewed at www.dot.gov/privacy.

I. Background

Highly automated vehicles (HAVs) are those in which the vehicle can take full control of the driving tasks in at least some circumstances. HAVs hold enormous potential benefits for safety, mobility, and sustainability.

In January 2014, SAE International (SAE) published Standard J3016, “Taxonomy and Definitions for Terms Related to On-Road Motor Vehicle Automated Driving Systems” in order to simplify communication and facilitate collaboration within technical and policy domains for automated driving. The Standard defines more than a dozen key terms, and provides full descriptions and examples for each of six levels of driving automation. The SAE definitions divide vehicles into levels based on “who does what, when.” Generally:

• At SAE Level 0, the human driver does everything.

• At SAE Level 1, an automated system on the vehicle can sometimes assist the human driver conduct some parts of the driving task.

• At SAE Level 2, an automated system on the vehicle can actually conduct some parts of the driving task, while the human continues to monitor the driving environment and performs the rest of the driving task.

• At SAE Level 3, an automated system can both actually conduct some parts of the driving task and monitor the driving environment in some instances, but the human driver must be ready to take back control when the automated system requests.

• At SAE Level 4, an automated system can conduct the driving task and monitor the driving environment, and the human need not take back control, but the automated system can operate only in certain environments and under certain conditions.

• At SAE Level 5, the automated system can perform all driving tasks, under all conditions that a human driver could perform them.

Using the SAE levels described above, there is a distinction between Levels 0-2 and 3-5 based on whether the human operator or the automated system is primarily responsible for monitoring the driving environment. The term “highly automated vehicle” represents SAE Levels 3-5 vehicles, with automated systems that are responsible for monitoring the driving environment.

Public discussions regarding HACVs have become much more prominent in recent months as developers continue efforts to demonstrate and test the viability of advanced driver assistance systems on large commercial vehicles. FMCSA encourages the development of these advanced safety technologies for use on commercial vehicles, and at the same time, recognizes the need to ensure that testing and operation of these advanced safety systems is conducted in a manner that ensures the highest level of safety for everyone involved—and most importantly, for the motoring public.

Sections 390.17 and 393.3 of the Federal Motor Carrier Safety Regulations (49 CFR parts 350-399) permit the use of additional equipment and accessories on CMVs beyond those which are minimally required by the regulations, provided that such equipment and accessories do not decrease the safety of operation of the CMVs on which they are used. While advanced driver assistance systems such as automatic emergency braking, lane departure warning, forward collision warning, and others are not currently required to be used on CMVs, the use of such systems is permitted provided they do not impair the effectiveness of the required safety systems.

II. Meeting Participation and Information the Agency Seeks From the Public

The listening session is open to the public. Speakers should try to limit their remarks to 3-5 minutes, and no preregistration is required. Attendees may submit material to FMCSA staff at the session to include in the public docket referenced in this notice. Those participating in the webcast will have the opportunity to submit comments online that will be read aloud at the session with comments made in the meeting room. FMCSA will docket the transcript of the webcast, a separate transcription of the listening session prepared by an official court reporter, and all other materials submitted to Agency personnel.

In anticipation of the continued development of HACVs, FMCSA seeks information on issues that need to be addressed to ensure that the Federal safety regulations provide appropriate standards for the safe operation of HACVs from design and development through testing and deployment. Specifically, FMCSA welcomes comments and information on the application of the following regulatory provisions in title 49 CFR to HACVs: Part 383 (Commercial Driver's Licenses); part 391 (Qualifications of Drivers); sections 392.80 and 392.82 (use of electronic devices); part 395 (Hours of Service of Drivers); and part 396 (Inspection, Repair, and Maintenance). The FMCSA also requests public comments on how enforcement officials could identify CMVs capable of various levels of automated operation and the types of HACV equipment that can be effectively inspected at roadside. The Agency welcomes the opportunity to work with all interested parties to identify actions that may be necessary to address regulatory barriers while ensuring the safe operation of HACVs.

Issued on: April 12, 2017.
Daphne Y. Jefferson,
Deputy Administrator.

[FR Doc. 2017-07723 Filed 4-14-17; 8:45 am]

BILLING CODE 4910-EX-P